DEPARTMENT OF THE INTERIOR

Office of the Secretary

Proposed Renewal of Information Collection: 1090-0007, American Customer Satisfaction Index (ACSI) Government Customer Satisfaction Surveys

AGENCY: Office of the Secretary, National Business Center, Federal Consulting Group.

ACTION: Notice and request for comments.

SUMMARY: In compliance with section 3506(c)(2)(A) of the Paperwork Reduction Act of 1995, the National Business Center, Department of the Interior announces that it has submitted a request for proposed extension of an information collection for the American Customer Satisfaction Index (ACSI) Government Customer Satisfaction Surveys to the Office of Management and Budget (OMB), and requests public comments on this submission. The information collection request describes the nature of the information collection and the expected burden and cost.

DATES: OMB has up to 60 days to approve or disapprove the information collection request, but may respond after 30 days; therefore, public comments should be submitted to OMB by November 9, 2012, in order to be assured of consideration.

ADDRESSES: Send your written comments by facsimile to (202) 395-5806 or email (OIRA_DOCKET@omb.eop.gov) to the Office of Information and Regulatory Affairs, Office of Management and Budget, Attention: Desk Office for the Department of the Interior (OMB1090-0007) Desk Officer. Also, please send a copy of your comments to Federal Consulting Group, Attention: Richard Tate, 1849 C St. NW., MS 314, Washington, DC 20240-0001, or by facsimile to (202) 513-7686, or via email to Richard_Tate@nbc.gov. Individuals providing comments should reference Customer Satisfaction Surveys (OMB 1090-0007).

FOR FURTHER INFORMATION CONTACT: To request additional information or copies of the form(s) and instructions, please write to the Federal Consulting Group, Attention: Richard Tate, 1849 C St. NW., MS 314, Washington, DC 20240-0001, or call (202) 513-7655, or email to Richard_Tate@nbc.gov. To see a copy of the entire ICR submitted to OMB, go to: http://www.reginfo.gov and select Information Collection Review, Currently Under Review.

SUPPLEMENTARY INFORMATION:

I. Abstract

The Office of Management and Budget (OMB) regulations at 5 CFR 1320, which implement provisions of the Paperwork Reduction Act of 1995 (Pub. L. 104-13), require that interested members of the public and affected agencies have an opportunity to comment on information collection and recordkeeping activities [see 5 CFR 1320.8(d)]. The Office of the Secretary, National Business Center, Federal Consulting Group has submitted a request to OMB to renew its approval of this collection of information for three years.

An agency may not conduct or sponsor, and a person is not required to respond to, a collection of information unless it is operating under a currently valid OMB control number. The OMB control number for this collection is 1090-0007. The control number will be displayed on the surveys used. For expeditious administration of the surveys, the expiration date will not be displayed on the individual instruments. Response is not required to obtain a benefit.

II. Data

(1) Title: “Customer Satisfaction Surveys”.

OMB Control Number: 1090-0007.

Current Expiration Date: October 31, 2012.

Type of Review: Information Collection Renewal.

Affected Entities: Individuals and Households, Businesses and Organizations, and State, Local or Tribal Government.

Estimated annual number of respondents: Participation by Federal agencies in the ACSI is expected to vary as new customer segment measures are added or deleted. However, based on historical records, projected average estimates for the next three years are as follows:

Average Expected Annual Number of Customer Satisfaction Surveys: 125

Respondents: 43,750

Annual responses: 43,750

Frequency of responses: Once per survey.

(2) Annual reporting and recordkeeping burden:

Total annual reporting per response: 12.0 minutes.

Total number of estimated responses: 43,750.

Total annual reporting: 8,750 hours. Note: it is expected that the first year there will be approximately 100 surveys initiated, the second year 125 surveys initiated, and the third year 150 surveys initiated based on prior experience and expected growth in the program. These figures above represent an expected average per year over the three-year period.

(3) Description of the need and use of the information: The proposed renewal of this information collection activity provides a means to consistently assess, benchmark and improve customer satisfaction with Federal Government agency programs and/or services within the Executive Branch. The Federal Consulting Group of the Department of the Interior serves as the executive agent for this methodology and has partnered with the CFI Group and the American Customer Satisfaction Index (ACSI) to offer the ACSI to Federal government agencies.

The CFI Group, a leader in customer satisfaction and customer experience management, offers a comprehensive model that quantifies the effects of quality improvements on citizen satisfaction. The CFI Group has developed the methodology and licenses it to the American Customer Satisfaction Index, an independent organization which produces the American Customer Satisfaction Index (ACSI). This national indicator is developed for different economic sectors each quarter, which are then published in The Wall Street Journal. The ACSI was introduced in 1994 by Professor Claes Fornell under the auspices of the University of Michigan, the American Society for Quality (ASQ), and the CFI Group. It monitors and benchmarks customer satisfaction across more than 200 companies and many U.S. Federal agencies.

The ACSI is the only cross-agency methodology for obtaining comparable measures of customer satisfaction with Federal government programs and/or services. Along with other economic objectives—such as employment and growth—the quality of output (goods and services) is a part of measuring living standards. The ACSI's ultimate purpose is to help improve the quality of goods and services available to American citizens.

ACSI surveys conducted by the Federal Consulting Group are subject to the Privacy Act of 1974, Public Law 93-579, December 31, 1974 (5 U.S.C. 552a). The agency information collection is an integral part of conducting an ACSI survey. The contractor will not be authorized to release any agency information upon completion of the survey without first obtaining permission from the Federal Consulting Group and the participating agency. In no case shall any new system of records containing privacy information be developed by the Federal Consulting Group, participating agencies, or the contractor collecting the data. In addition, participating Federal agencies may only provide information used to randomly select respondents from among established systems of records provided for such routine uses.

There is no other agency or organization which is able to provide the information that is accessible through the surveying approach used in this information collection. Further, the information will enable Federal agencies to determine customer satisfaction metrics with discrimination capability across variables. Thus, this information collection will assist Federal agencies in improving their customer service in a targeted manner which will make best use of resources to improve service to the public.

This survey asks no questions of a sensitive nature, such as sexual behavior and attitudes, religious beliefs, and other matters that are commonly considered private.

As required under 5 CFR 1320.8(d), a Federal Register notice soliciting comments on the collection of information was published on February 28, 2012 (77 FR 12073-74). No comments were received. This notice provides the public with an additional 30 days in which to comment on the proposed information collection activity.

III. Request for Comments

The Departments invite comments on:

(a) Whether the collection of information is necessary for the proper performance of the functions of the agencies, including whether the information will have practical utility;

(b) The accuracy of the agencies' estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information techniques.

“Burden” means the total time, effort, and financial resources expended by persons to generate, maintain, retain, disclose, or provide information to or for a Federal agency. This includes the time needed to review instructions; to develop, acquire, install, and utilize technology and systems for the purpose of collecting, validating, and verifying information, processing and maintaining information, and disclosing and providing information; to train personnel and to be able to respond to a collection of information, to search data sources, to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the National Business Center, Federal Consulting Group by calling (202) 513-7655. A valid picture identification is required for entry into the Department of the Interior.

An agency may not conduct or sponsor, and a person is not required to respond to, a collection of information unless it displays a currently valid Office of Management and Budget control number.

Ron Oberbillig,
Chief Operating Officer, Federal Consulting Group.

[FR Doc. 2012-24763 Filed 10-9-12; 8:45 am]

BILLING CODE 4310-RK-P